ENVIRONMENTAL PROTECTION AGENCY

[OAR-2004-0015; FRL-7811-4]

Agency Information Collection Activities; Submission to OMB for Review and Approval; Comment Request; State Operating Permits Regulations (40 CFR Part 70) (Renewal), EPA ICR Number 1587.06, OMB Control Number 2060-0243

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on October 31, 2004. Under OMB regulations, the Agency may continue to conduct or sponsor the collection of information while this submission is pending at OMB. This ICR describes the nature of the information collection and its estimated burden and cost.

DATES: Additional comments may be submitted on or before October 13, 2004.

ADDRESSES: Submit your comments, referencing docket ID number OAR-2004-0015, to (1) EPA online using EDOCKET (our preferred method), by e-mail to a-and-r-docket@epa.gov, or by mail to: Environmental Protection Agency, EPA Docket Center (EPA/DC), Air and Radiation Docket and Information Center, EPA West, Mail Code 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Grecia A. Castro, Office of Air Quality Planning and Standards, C304-04, Environmental Protection Agency, Research Triangle Park, NC 27711; telephone number: (919) 541-1351; fax number: (919) 541-5509; e-mail address: castro.grecia@epa.gov.

SUPPLEMENTARY INFORMATION: EPA has submitted the following ICR to OMB for review and approval according to the procedures prescribed in 5 CFR 1320.12. On March 23, 2004 (69 FR 13524), EPA sought comments on this ICR pursuant to 5 CFR 1320.8(d). EPA received no comments.

EPA has established a public docket for this ICR under Docket ID No. OAR-2004-0015, which is available for public viewing at the Air and Radiation Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air Docket is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: State Operating Permits Regulations (40 CFR part 70) (Renewal).

Abstract: In implementing sections 501 thru 507 of title V of the Clean Air Act and EPA's part 70 operating permits regulations, State and local permitting agencies must develop programs and submit them to EPA for approval and sources subject to the program must develop operating permit applications and submit them to the permitting authority within one year after program approval. Permitting authorities will then issue permits and thereafter enforce, revise, and renew those permits at no more than 5-year intervals. Permit applications and proposed permits will be provided to, and are subject to review by, EPA. All information submitted by a source and the issued permit shall also be available for public review, except for confidential information, which will be protected from disclosure. The public shall be given public notice of, and an opportunity for comment on, permitting actions. Sources will submit monitoring reports semi-annually and compliance certifications annually to the permitting authorities. The EPA has the responsibility to oversee implementation of the program.

The activities in this ICR involve recordkeeping and information transmittal in the form of reports (deviations, monitoring or compliance certification), applications for permits or revisions and issued permits. Draft permits are made available for public review and comment. The activities to carry out these tasks are considered mandatory and necessary for implementation of title V and the proper performance of the operating permits program. The information will also be available for public inspection at any time in the offices of the permitting authorities. This notice provides updated burden estimates from a previously approved ICR.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 288 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Air pollution sources, state and local permitting authorities.

Estimated Number of Respondents: 17,738 sources, 112 permitting authorities.

Frequency of Response: Semi-annually, annually, on occasion, one time.

Estimated Total Annual Hour Burden: 5,109,548.

Estimated Total Annual Cost: $170,343,958, which includes $0 annualized capital costs, $0 O&M costs, and $170,343,958 annual labor costs.

Changes in the Estimates: There is an increase of 329,928 hours in the total estimated burden currently identified in the OMB Inventory of Approved ICR Burdens. This increase is an adjustment related to the nature of the activities associated with implementing the part 70 program. State and local permitting authorities first developed their programs and submitted them to EPA for approval, over a period of several years, during which approved programs were beginning to be implemented by first having sources submit permit applications. As the later program submissions were being approved, some agencies were in the early stages of issuing permits. As of the beginning of this ICR, all programs are approved and the majority of sources initially subject to the program have been issued permits. All sources with permits will be performing collection activities. Some of the initial permits are expiring and sources are applying for renewal permits, other sources are making changes and applying for permit revisions.

Dated: September 2, 2004.
Oscar Morales,
Director, Collection Strategies Division.

[FR Doc. 04-20604 Filed 9-10-04; 8:45 am]

BILLING CODE 6560-50-P